DEPARTMENT OF JUSTICE

Immigration and Naturalization Service

8 CFR Part 236

[INS Order No. 1906-98]

RIN 1115-AF05

Processing, Detention, and Release of Juveniles

AGENCY: Immigration and Naturalization Service, Department of Justice.

ACTION: Proposed rule; reopening of comment period.

SUMMARY: On July 24, 1998, at 64 FR 39759, the Immigration and Naturalization Service (Service) published a proposed rule in the Federal Register proposing to establish procedures for processing juveniles in Service custody. Specifically, the proposed rule set forth proposed service policy for the release of juveniles from custody, as well as standards regarding the placement of juveniles in Service custody into state-licensed programs and detention facilities. The rule also proposed amendments concerning the transportation and transfer of juveniles in Service custody. The original comment period for the proposed rule closed on September 22, 1998. This document reopens the comment period to March 15, 2002. The Service is reopening the comment period to hear from the public on the following issues: determinations of who speaks for the child with respect to immigration matters, circumstances under which detention in a secure juvenile facility is necessary, and any additional ideas that may be helpful to minimize the number of juveniles who must be placed in Service custody.

DATES: Written comments must be submitted on or before March 15, 2002.

ADDRESSES: Please submit written comments to Director, Policy Directives and Instructions Branch, Immigration and Naturalization Service, 425 I Street, NW., Room 4034, Washington, DC 20536. To ensure proper handling, please reference INS No. 1906-98 on your correspondence. You may also submit comments to the Service electronically at insregs@usdoj.gov. When submitting comments electronically please include INS No. 1906-98 in the subject box. Comments are available for public inspection at the above address by calling (202) 514-3048 to arrange for an appointment.

FOR FURTHER INFORMATION CONTACT: Mark A. Matese, Director, Juvenile Affairs Division, Headquarters Office of Detention and Removal, Immigration and Naturalization, 425 I Street, NW., Washington, DC 20536, 202-305-2734 or 202-353-8228.

SUPPLEMENTARY INFORMATION:

Why is the Service Reopening the Comment Period?

The Service is currently examining the appropriate infrastructure and policies for managing and developing its programs relating to unaccompanied minors. As part of that process, the Service has decided to offer the public an additional opportunity to comment on the proposed rule, and particularly invites comments that relate to issues that have come to the public's attention since the close of the original comment period in 1998. The Service is reopening the comment period to hear from the public on the following issues: determinations of who speaks for the child with respect to immigration matters, circumstances under which detention in a secure juvenile facility is necessary, and any additional ideas that may be helpful to minimize the number of juveniles who must be placed in Service custody.

Where Can the Public View the July 24, 1998 Proposed Rule?

The July 24, 1998, proposed rule can be viewed on the Government Printing Office Web site at: http://frwebgate.access.gpo.gov/cgi-bin/getdoc.cgi?dbname=1998 register&docid=98-19712-filed

Dated: November 19, 2001.
James W. Ziglar,
Commissioner, Immigration and Naturalization Service.

[FR Doc. 02-811 Filed 1-11-02; 8:45 am]

BILLING CODE 4410-10-M